FEDERAL COMMUNICATIONS COMMISSION

47 CFR Part 10

[PS Docket Nos. 15-91 and 15-94; DA 25-12; FR ID 322439]

Wireless Emergency Alerts and the Emergency Alert System; Correction

AGENCY: Federal Communications Commission.

ACTION: Final rule; correction.

SUMMARY: The Federal Communications Commission (Commission) published a document in the Federal Register on December 10, 2025, announcing the effective and compliance date for new rules related to multilingual Wireless Emergency Alerts (WEA). The document contained an incorrect date.

DATES: Effective June 12, 2028.

FOR FURTHER INFORMATION CONTACT: Joshua Gehret, Cybersecurity and Communications Reliability Division, Public Safety and Homeland Security Bureau, (202) 418-7816 or joshua.gehret@fcc.gov.

SUPPLEMENTARY INFORMATION:

Correction

In the Federal Register of December 10, 2025, in FR Doc. 2025-22434, on page 57288, in the first column, correct the Dates caption to read:

DATES: The amendments to 47 CFR 10.480 (amendatory instruction 4) and 47 CFR 10.500(e) (amendatory instruction 6), published at 88 FR 86824 on December 15, 2023, are effective on June 12, 2028. The amendments in this document to 47 CFR 10.480 (amendatory instruction 2) and 47 CFR 10.500(e) (amendatory instruction 3) are delayed indefinitely.

Dated: December 11, 2025.
Federal Communications Commission.
Zenji Nakazawa,
Chief, Public Safety Homeland Security Bureau.

[FR Doc. 2025-23337 Filed 12-17-25; 8:45 am]

BILLING CODE 6712-01-P